DEPARTMENT OF HOMELAND SECURITY

Coast Guard

[Docket No. USCG-2010-0164]

National Boating Safety Advisory Council

AGENCY: Coast Guard, DHS.

ACTION: Notice of meeting.

SUMMARY: The National Boating Safety Advisory Council (NBSAC) will meet on April 1-2, 2011, in Arlington, Virginia. NBSAC discusses issues relating to recreational boating safety. The meetings will be open to the public.

DATES: NBSAC will meet Friday, April 1, 2011, from 9 a.m. to 5 p.m. and Saturday, April 2, 2011, from 9 a.m. to 5 p.m. Please note that the meetings may conclude early if NBSAC has completed all business.

All written materials, comments, and requests to make oral presentations at the meetings should reach Mr. Jeff Ludwig, Assistant Designated Federal Officer (ADFO) for NBSAC by March 23, 2011, via one of the methods described in ADDRESSES. Any written material submitted by the public will be distributed to the committee and become part of the public record.

ADDRESSES: The meeting will be held in the Ballroom at the Holiday Inn Arlington, 4610 N Fairfax Drive, Arlington, VA 22203.

Please send written material, comments, and requests to make oral presentations to Mr. Jeff Ludwig, ADFO for NBSAC, by one of the submission methods described below. All materials, comments, and requests must be identified by docket number USCG-2010-0164.

Submission Methods: Please use only one of the following methods:

• Federal eRulemaking Portal: http://www.regulations.gov. Follow the instructions for submitting comments.

• E-mail: jeffrey.a.ludwig@uscg.mil. Include the docket number in the subject line of the message.

• Fax: (202) 372-1932.

• Mail: Mr. Jeff Ludwig, COMDT (CG-54221), 2100 2nd Street, SW., Stop 7581, Washington, DC 20593.

Instructions: All submissions received must include the words “U.S. Coast Guard” and docket number USCG-2010-0164. All submissions received will be posted without alteration at http://www.regulations.gov, including any personal information provided. Anyone can search the electronic form of comments received into any of our dockets by the name of the individual submitting the comment (or signing the comment, if submitted on behalf of an association, business, labor union, etc.) You may review a Privacy Act notice regarding our public dockets in the January 17, 2008 issue of the Federal Register (73 FR 3316).

Docket: For access to the docket to read background documents or submissions received by the NBSAC, go to http://www.regulations.gov.

FOR FURTHER INFORMATION CONTACT: Mr. Jeff Ludwig, ADFO for NBSAC, COMDT (CG-54221), 2100 2nd Street, SW., Stop 7581, Washington, DC 20593; (202) 372-1061; jeffrey.a.ludwig@uscg.mil.

SUPPLEMENTARY INFORMATION: Notice of this meeting is given under the Federal Advisory Committee Act (FACA), 5 U.S.C. App. (Pub. L. 92-463). Congress established NBSAC in the Federal Boat Safety Act of 1971 (Pub. L. 92-75). NBSAC currently operates under the authority of 46 U.S.C. 13110, which requires the Secretary of Homeland Security, and the Commandant of the Coast Guard by delegation, to consult with NBSAC in prescribing regulations for recreational vessels and associated equipment, and on other major boating safety matters. See 46 U.S.C. 4302(c) and 13110(c).

Tentative Agendas of Meetings

The agenda for NBSAC meeting is as follows:

Friday, April 1, 2011:

(1) Opening Remarks—Mr. James P. Muldoon, NBSAC Chairman;

(2) Receipt and discussion of the following reports:

(a) Chief, Office of Auxiliary and Boating Safety Update on NBSAC Resolutions and Recreational Boating Safety Program report.

(b) Executive Secretary's report.

(c) Towing Safety Advisory Committee (TSAC) Liaison's report.

(d) Navigation Safety Advisory Council (NAVSAC) Liaison's report.

(e) National Association of State Boating Law Administrators (NASBLA) report.

(f) Boating Industry Risk Management Council (BIRMC) Liaison's report.

(g) Life Jacket Working Group report.

(3) Presentation on Boat Rental Education Kit.

(4) Presentation on non-USCG Approved Life Jackets.

(5) Presentation on Progress Made on Recommendation Regarding the Development of New Life Jacket Standards and Approval Processes for Life Jackets.

(6) Discussion of Potential Recommendation to the Coast Guard on the Mandatory Wear of Life Jackets.

Saturday, April 2, 2011:

(7) Discussion of Potential Recommendation to the Coast Guard on the Mandatory Wear of Life Jackets (Cont.).

A more detailed agenda can be found at: http://homeport.uscg.mil/NBSAC, after March 23, 2011.

Procedural

These meetings are open to the public. Please note that the meeting may conclude early if all business is finished. Members of the public may make oral presentations during the meetings concerning the matters being discussed. Public comments will be limited to three minutes per speaker. If you would like to make an oral presentation at the meetings, please notify Mr. Jeff Ludwig as described in the ADDRESSES section above by March 23, 2011.

Information on Services for Individuals With Disabilities

For information on facilities or services for individuals with disabilities or to request special assistance at the meeting, contact Mr. Jeff Ludwig as described in the ADDRESSES section above as soon as possible.

Dated: March 8, 2011.
Lincoln D. Stroh,
Captain, U.S. Coast Guard, Acting Director of Prevention Policy.

[FR Doc. 2011-5892 Filed 3-14-11; 8:45 am]

BILLING CODE 9110-04-P